DEPARTMENT OF COMMERCE

International Trade Administration

Initiation of Antidumping and Countervailing Duty Administrative Reviews; Amendment of Notice

AGENCY: Enforcement and Compliance, International Trade Administration, Department of Commerce.

SUMMARY: The U.S. Department of Commerce (Commerce) is amending the notice of initiation of administrative reviews of antidumping duty (AD) and countervailing duty (CVD) orders with January 2021 anniversary dates to include a company that was inadvertently omitted from the AD administrative review of softwood lumber from Canada.

DATES: Applicable July 20, 2022.

FOR FURTHER INFORMATION CONTACT: Jeffrey Pedersen, AD/CVD Operations, Office IV, Enforcement and Compliance, International Trade Administration, U.S. Department of Commerce, 1401 Constitution Avenue NW, Washington, DC 20230, telephone: (202) 482-2769.

SUPPLEMENTARY INFORMATION:

Correction

On March 4, 2021, Commerce published a notice of initiation of administrative reviews of AD and CVD orders with January 2021 anniversary dates.¹ Commerce inadvertently omitted from the Initiation Notice the initiation of a company from the administrative review of the AD order on softwood lumber from Canada. Commerce is hereby admending the Initiation Notice to initiate the request for review of the following company:

¹ See Initiation of Antidumping and Countervailing Duty Administrative Reviews, 86 FR 12599 (March 4, 2021) (Initiation Notice).

AD proceedings | Period to be reviewed
Canada: Softwood Lumber, A-122-857 | 1/1/20-12/31/20
Comox Valley Shakes (2019) Ltd.

Dated: July 14, 2022.
Scot Fullerton,
Associate Deputy Assistant Secretary for Antidumping and Countervailing Duty Operations.

[FR Doc. 2022-15462 Filed 7-19-22; 8:45 am]

BILLING CODE 3510-DS-P